SMALL BUSINESS ADMINISTRATION

Region IV North Florida District Advisory Council; Public Meeting

Pursuant to the Federal Advisory Committee Act, 5 U.S.C. app.2, section10(a)(2), notice is hereby given that the U.S. Small Business Administration North Florida District Advisory Council will host a public meeting on Thursday, February 7, 2008 at 12 p.m. EST. The meeting will take place at the Jacksonville Port Authority located at 9810 August Dr., Jacksonville, FL 32226.

The purpose of the meeting is to discuss such matters that may be presented by members, and staff of the U.S. Small Business Administration, or others present. The agenda items will include a presentation by JaxPort Executive Director Rick Ferrin as well as matters of the SBA including loan reports and goals status for FY 2008. Anyone wishing to make an oral presentation to the Board must contact Wilfredo J. Gonzalez, District Director, in writing by letter or fax no later than Monday, February 4, 2008, in order to be placed on the agenda. Wilfredo J. Gonzalez, District Director, U.S. Small Business Administration, 7825 Baymeadows Way; Suite 100B, Jacksonville, FL 32256; Telephone (904) 443-1900 or FAX (904) 443-1980.

Cherylyn Lebon,
Committee Management Officer.

[FR Doc. E8-1767 Filed 1-30-08; 8:45 am]

BILLING CODE 8025-01-P